NUCLEAR REGULATORY COMMISSION

[NRC-2016-0246]

Withdrawal of Regulatory Guides 1.3, 1.4, and 1.5

AGENCY: Nuclear Regulatory Commission.

ACTION: Regulatory Guides 1.3, 1.4, and 1.5; withdrawal.

SUMMARY: The U.S. Nuclear Regulatory Commission (NRC) is withdrawing three regulatory guides (RGs): RG 1.3, Revision 2, “Assumptions Used for Evaluating the Potential Radiological Consequences of a Loss of Coolant Accident for Boiling Water Reactors,” dated June 1974; RG 1.4, Revision 2, “Assumptions Used for Evaluating the Potential Radiological Consequences of a Loss of Coolant Accident for Pressurized Water Reactors,” dated June 1974; and RG 1.5 (Safety Guide 5), “Assumptions Used for Evaluating the Potential Radiological Consequences of a Steam Line Break Accident for Boiling Water Reactors,” dated March 1971. These three RGs are being withdrawn because the guidance contained in them has been superseded and is now incorporated into RG 1.183, “Alternative Radiological Source Terms for Evaluating Design Basis Accidents at Nuclear Power Reactors,” and RG 1.195, “Methods and Assumptions for Evaluating Radiological Consequences of Design Basis Accidents at Light-Water Nuclear Power Reactors.”

DATES: The effective date of the withdrawal of RGs 1.3, 1.4, and 1.5 is December 8, 2016.

ADDRESSES: Please refer to Docket ID NRC-2016-0246 when contacting the NRC about the availability of information regarding this document. You may obtain publicly-available information related to this document using any of the following methods:

• Federal Rulemaking Web site: Go to http://www.regulations.gov and search for Docket ID NRC-2016-0246. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The withdrawal notices for RGs 1.3, 1.4, and 1.5 are available in ADAMS under Accession No. ML16210A319.

• NRC's PDR: You may examine and purchase copies of public documents at the NRC's PDR, Room O1-F21, One White Flint North, 11555 Rockville Pike, Rockville, Maryland 20852.

FOR FURTHER INFORMATION CONTACT: John Parillo, Office of Nuclear Reactor Regulation, telephone: 301-415-1344; email John.Parillo@nrc.gov; or Mark Orr, Office of Nuclear Regulatory Research, telephone: 301-415-6003; email: Mark.Orr@nrc.gov. Both are staff of the U.S. Nuclear Regulatory Commission, Washington, DC 20555-0001.

SUPPLEMENTARY INFORMATION: Regulatory guides may be withdrawn by the NRC when their guidance no longer provides useful information, or is superseded by technological innovations, congressional actions, or other events. The withdrawal of an RG should be thought of as the final revision of the guide.

The NRC is withdrawing RG 1.3, Revision 2, “Assumptions Used for Evaluating the Potential Radiological Consequences of a Loss of Coolant Accident for Boiling Water Reactors,” dated June 1974 (ADAMS Accession No. ML16215A353); RG 1.4, Revision 2, “Assumptions Used for Evaluating the Potential Radiological Consequences of a Loss of Coolant Accident for Pressurized Water Reactors,” dated June 1974 (ADAMS Accession No. ML16215A351); and RG 1.5 (Safety Guide 5), “Assumptions Used for Evaluating the Potential Radiological Consequences of a Steam Line Break Accident for Boiling Water Reactors,” dated March 1971 (ADAMS Accession No. ML16215A352).

The NRC is withdrawing these three RGs because the guidance contained in them has been superseded by more current guidance which has been incorporated into RG 1.183, “Alternative Radiological Source Terms for Evaluating Design Basis Accidents at Nuclear Power Reactors,” (ADAMS Accession No. ML003716792), and RG 1.195, “Methods and Assumptions for Evaluating Radiological Consequences of Design Basis Accidents at Light-Water Nuclear Power Reactors,” (ADAMS Accession No. ML031490640). The information in RG 1.183 provides guidance for new and existing light-water reactor (LWR) plants that have adopted the alternative source term (AST), and RG 1.195 provides guidance for those LWR plants that have not adopted the AST.

The withdrawal of RGs 1.3, 1.4, and 1.5 does not alter any prior or existing NRC licensing approval or the acceptability of licensee commitments to these RGs. Although RGs 1.3, 1.4, and 1.5 are withdrawn, current licensees may continue to use them, and withdrawal does not affect any existing licenses or agreements. However, by withdrawing RGs 1.3, 1.4, and 1.5, the NRC no longer approves for use the guidance in these RGs in future requests or applications for NRC licensing actions.

Dated at Rockville, Maryland, this 2nd day of December, 2016.
For the Nuclear Regulatory Commission.
Thomas H. Boyce,
Chief, Regulatory Guidance and Generic Issues Branch, Division of Engineering, Office of Nuclear Regulatory Research.

[FR Doc. 2016-29407 Filed 12-7-16; 8:45 am]

BILLING CODE 7590-01-P